DEPARTMENT OF LABOR

Bureau of Labor Statistics

Proposed Collection; Comment Request

ACTION: Notice.

SUMMARY: The Department of Labor, as part of its continuing effort to reduce paperwork and respondent burden, conducts a pre-clearance consultation program to provide the general public and Federal agencies an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed revision of the Consumer Expenditure Surveys (CES). A copy of the proposed information collection request (ICR) can be obtained by contacting the individual listed in the Addresses section of this notice.

DATES: Written comments must be submitted to the office listed in the Addresses section of this notice on or before June 9, 2000.

ADDRESSES: Send comments to Sytrina D. Toon, BLS Clearance Officer, Division of Management Systems, Bureau of Labor Statistics, Room 3255, 2 Massachusetts Avenue, N.E., Washington, DC 20212, telephone number 202-691-7628 (this is not a toll free number).

FOR FURTHER INFORMATION CONTACT: Sytrina D. Toon, BLS Clearance Officer, telephone number 202-691-7628. (See Addresses section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and for future CPI revisions. The CE Surveys have been ongoing since 1979.

The data from the CE Surveys are used (1) for CPI revisions; (2) to provide a continuous flow of data on income and expenditure patterns for use in economic analysis and policy formulation; and (3) to provide a flexible consumer survey vehicle that is available for use by other Federal Government agencies. Public and private users of price statistics, including Congress and the economic policymaking agencies of the Executive Branch, rely on data collected in the CPI in their day-to-day activities. If the CE Surveys were not conducted on a continuing basis, current information necessary for more timely as well as more accurate updating of the CPI would not be available. In addition, data would not be available to respond to the continuing demand—from the public and private sectors—for current information on consumer spending.

In the Quarterly Interview Survey, each consumer unit (CU) in the sample is interviewed every three months over five calendar quarters. The sample for each quarter is divided into three panels, with CU's being interviewed every three months in the same panel of every quarter. The Quarterly Interview Survey is designed to collect data on the types of expenditures that respondents can be expected to recall for a period of three months or longer. In general the expenses reported in the Interview Survey either are relatively large, such as property, automobiles, or major appliances, or are expenses which occur on a fairly regular basis, such as rent, utility bills or insurance premiums.

The Diary (or record keeping) Survey is completed at home by the respondent family for two consecutive one-week periods. The primary objective of the Diary Survey is to obtain expenditure data on small, frequently purchased items which normally are difficult to recall over longer periods of time.

II. Desired Focus of Comments

The Bureau of Labor Statistics is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

The Quarterly Interview Survey is being updated for implementation in April of 2001. The changes made to the forms fall into three categories: (1) Expenditures of new items in the marketplace were added for use in the Consumer Price Index and in CE publications. These include such items as DSL and ISDN services and shopping warehouse clubs. (2) Similar questions were consolidated to make the survey easier and more organized for the respondent. (3) Bracketed categories of responses were added to the income sections to decrease non-response through decreasing respondent burden.

The Consumer Expenditure Surveys continuously make efforts to reduce respondent burden per case by streamlining the questionnaire. Efforts were made in this forms redesign, as follows:

• In several areas field representative instructions were added to make the forms easier to understand for the field representative and the respondent.

• The questionnaire flow was improved by moving similar questions into concise and consolidated sections.

• Wording was changed to use more current terminology.

Once the forms have been in the field the BLS will perform timing tests to determine what impact these changes have had on burden. The Consumer Expenditure Surveys continue to investigate ways to reduce respondent burden, and have plans implement further changes aimed at reducing respondent burden when computer assisted personal interviewing is implemented in 2003.

Type of Review: Revision.

Agency: Bureau of Labor Statistics.

Title: Consumer Expenditure Surveys.

OMB Number: 1220-0050.

Affected Public: Individuals or households.

Total Respondents: 18,216.

Frequency: Quarterly Interview Survey respondents are interviewed quarterly for five consecutive quarters (four time in any one year). Diary Survey respondents complete two consecutive weekly reports.

Total Responses: 68,194.

Average Time Per Response: 87.83 minutes.

Estimated Total Burden Hours: 99,820 hours.

Total Burden Cost (capital/startup): $0.

Total Burden Cost (operating/maintenance): $0.

Comments submitted in response to this notice will be summarized and/or included in the request for Office of Management and Budget approval of the information collection request; they also will become a matter of public record.

Dated: Signed at Washington, D.C., this 4th day of April 2000.
W. Stuart Rust, Jr.,
Chief, Division of Management Systems, Bureau of Labor Statistics.

[FR Doc. 00-8776 Filed 4-7-00; 8:45 am]

BILLING CODE 4510-24-M